DEPARTMENT OF TRANSPORTATION

Federal Aviation Administration

Environmental Impact Statement: Louis Armstrong New Orleans International Airport, New Orleans, LA

AGENCY: Federal Aviation Administration (FAA), DOT.

ACTION: Notice of intent.

SUMMARY: The FAA is issuing this notice to advise the public that the FAA has revised the Purpose and Need for the Environmental Impact Statement (EIS) currently being prepared and considered for a proposed new air carrier runway and a taxiway conversion to a general aviation runway at Louis Armstrong New Orleans International Airport, New Orleans, Louisiana.

The original purpose of the proposed new air carrier runway project was provided in a Notice of Intent published in the Federal Register on November 28, 2000, stating the existing north-south Runway 1/19 does not provide full instrument capabilities, nor is it feasible to expand the runway to meet design standards to provide these capabilities because of its proximity to Airport Access Road and the Interstate 10 overpass. While the proposed runway is to provide the capacity to meet near-term forecast peak-period demands when the airport is experiencing low visibility, it would also provide capacity to meet longer-term demands during all weather conditions. Some of the alternatives considered are the no action, north/south parallel to existing Runway 1/19, as well as an 8 degree canted north/south alignment. Also included in the alternatives analysis will be the consideration of a proposed new Regional airport. The revised purpose and need for the proposed new air carrier runway is to provide the City of New Orleans and the New Orleans Aviation Board with the long-term option of taking steps necessary to protect a site for a new air carrier runway.

The purpose and need for the taxiway conversion to a general aviation runway, as reported in the Federal Register on November 28, 2000, has not changed. The conversion of the east-west Taxiway G to a runway is intended to serve general aviation (GA) aircraft using the recently constructed northside facilities, allowing air traffic controller separation of lower-speed GA aircraft from higher performance aircraft. The alternatives being considered are the no action; the proposed taxiway to runway conversion, and others that will be identified in the EIS study.

FOR FURTHER INFORMATION CONTACT: Joyce M. Porter, Environmental Specialist, Federal Aviation Administration, Southwest Regional Office, Fort Worth, Texas 76193-0640. Telephone (817) 222-5640.

SUPPLEMENTARY INFORMATION: The FAA, in cooperation with the City of New Orleans and the New Orleans Aviation Board, will prepare an EIS for the proposed projects. The City of New Orleans and the New Orleans Aviation Board propose to construct a new air carrier runway, 8,000 ft. long and 150 ft wide, and its associated taxiways when the operational forecasts at the airport demonstrate the need for such a runway. The conversion of an east/west taxiway into a parallel Visual Flight Rule general aviation runway, 6,731 ft long and 100 ft. wide, and construction of a new parallel taxiway; and redesignate the existing runway 6/24 to a taxiway is determined to be needed in the near-term. The FAA intends to provide notification of the revised purpose and need to the public, interested parties, and Federal, state, and local agencies through the EIS Web site, the EIS Newsletter, this revised NOI, and through notices placed in local newspapers. Any additional comments can be mailed to the attention of Joyce M. Porter at the above address.

Issued on: March 23, 2004.
Naomi L. Saunders,
Manager, Airports Division.

[FR Doc. 04-7685 Filed 4-5-04; 8:45 am]

BILLING CODE 4910-13-M